CONSUMER PRODUCT SAFETY COMMISSION

Civil Penalties; Notice of Adjusted Maximum Amounts

AGENCY: Consumer Product Safety Commission.

ACTION: Notice of adjusted maximum civil penalty amounts.

SUMMARY: In 1990 Congress enacted statutory amendments that provided for periodic adjustments to the maximum civil penalty amounts authorized under the Consumer Product Safety Act, the Federal Hazardous Substances Act, and the Flammable Fabrics Act. As calculated in accordance with the amendments, the new amounts are $8,000 for each violation and $1,825,000 for any related series of violations.

DATES: The new amounts will become effective on January 1, 2005.

FOR FURTHER INFORMATION CONTACT: Leonard H. Goldstein, Attorney, Office of the General Counsel, CPSC, Washington, DC 20207; telephone (301) 504-7635; e-mail lgoldstein@cpsc.gov.

SUPPLEMENTARY INFORMATION: The Consumer Product Safety Improvements Act of 1990 (Improvements Act), Pub. L. 101-608, 104 Stat. 3110 (November 16, 1990), amended the Consumer Product Safety Act (CPSA), the Federal Hazardous Substances Act (FHSA), and the Flammable Fabrics Act (FFA). First, the Improvements Act added civil penalty authority to the FHSA and FFA, which previously contained only criminal penalties. 15 U.S.C. 1264(c) and 1194(e). Second, the Improvements Act increased the maximum civil penalty amounts applicable to civil penalties under the CPSA, and set the same maximum amounts for the newly-created FHSA and FFA civil penalties. 15 U.S.C. 2069(a), 1264(c)(1), and 1194(e)(1).

Third, the Improvements Act directed the Commission to adjust the maximum civil penalty amounts periodically for inflation:

(A) The maximum penalty amounts authorized in paragraph (1) shall be adjusted for inflation as provided in this paragraph.

(B) Not later than December 1, 1994, and December 1 of each fifth calendar year thereafter, the Commission shall prescribe and publish in the Federal Register a schedule of maximum authorized penalties that shall apply for violations that occur after January 1 of the year immediately following such publication.

(C) The schedule of maximum authorized penalties shall be prescribed by increasing each of the amounts referred to in paragraph (1) by the cost-of-living adjustment for the preceding five years. Any increase determined under the preceding sentence shall be rounded to—

(i) In the case of penalties greater than $1,000 but less than or equal to $10,000, the nearest multiple of $1,000;

(ii) In the case of penalties greater than $10,000 but less than or equal to $100,000, the nearest multiple of $5,000;

(iii) In the case of penalties greater than $100,000 but less than or equal to $200,000, the nearest multiple of $10,000; and

(iv) In the case of penalties greater than $200,000, the nearest multiple of $25,000.

(D) For purposes of this subsection:

(i) The term “Consumer Price Index” means the Consumer Price Index for all-urban consumers, published by the Department of Labor.

(ii) The term “cost-of-living adjustment for the preceding five years” means the percentage by which—

(I) The Consumer Price Index for the month of June of the calendar year preceding the adjustment; exceeds

(II) The Consumer Price Index for the month of June preceding the date on which the maximum authorized penalty was last adjusted. 15 U.S.C. 2069(a)(3), 1264(c)(6), and 1194(e)(5).

The Commission's Directorate for Economics has calculated that the cost-of-living adjustment increases the maximum civil penalty amounts to $7,737 for each violation and to $1,823,736 for any related series of violations. Rounding off these numbers in accordance with the statutory directions, the adjusted maximum amounts are $8,000 for each violation and $1,825,000 for any related series of violations.

These new amounts will apply to violations that occur after January 1, 2005.

Dated: November 19, 2004.
Todd A. Stevenson,
Secretary, Consumer Product Safety Commission.

[FR Doc. 04-26088 Filed 11-24-04; 8:45 am]

BILLING CODE 6355-01-P